POSTAL SERVICE

39 CFR Part 965

Rules of Practice in Proceedings Relative to Mail Disputes

AGENCY: Postal Service.

ACTION: Final rule.

SUMMARY: This document revises the rules of practice of the Postal Service's Office of the Judicial Officer to allow qualified persons licensed to practice law to be designated by the Judicial Officer as presiding officers in proceedings relating to mail disputes.

DATES: Effective Date: March 1, 2010.

ADDRESSES: Judicial Officer Department, United States Postal Service, 2101 Wilson Boulevard, Suite 600, Arlington, VA 22201-3078.

FOR FURTHER INFORMATION CONTACT: Administrative Judge Gary E. Shapiro, (703) 812-1910.

SUPPLEMENTARY INFORMATION:

A. Executive Summary

39 CFR Part 965 contains the rules governing proceedings involving Mail Disputes. Only one change is made. Paragraph (a) of section 965.4 of the rules has defined the “presiding officer” as an Administrative Law Judge or an Administrative Judge qualified in accordance with law. The revised rule expands the definition of presiding officer to include any other qualified person licensed to practice law designated by the Judicial Officer to preside over a proceeding conducted pursuant to this part.

B. Summary of Change

Expanding the definition of presiding officer in Part 965 is intended to permit qualified staff counsel employed in the Office of the Judicial Officer to be designated as the initial presiding official authorized to conduct proceedings and issue Initial Decisions in the resolution of mail disputes. Administrative Law Judges and Administrative Judges qualified in accordance with law will continue to be designated as presiding officers in such matters. The appellate procedure is unchanged.

C. Effective Dates and Applicability

These revised rules will govern proceedings under Part 965 docketed on or after March 1, 2010.

List of Subjects in 39 CFR Part 965

Administrative practice and procedure, Mail disputes, Postal Service.

For the reasons stated in the preamble, the Postal Service amends 39 CFR Part 965 as set forth below:

1. The authority citation for part 965 continues to read as follows:

Authority: 39 U.S.C. 204, 401.

2. In § 965.4, paragraph (a) is revised to read as follows:

§ 965.4 Presiding officers.

(a) The presiding officer shall be an Administrative Law Judge, an Administrative Judge qualified in accordance with law, or any other qualified person licensed to practice law designated by the Judicial Officer to preside over a proceeding conducted pursuant to this part. The Judicial Officer assigns cases under this part. Judicial Officer includes Associate Judicial Officer upon delegation thereto. The Judicial Officer may, on his or her own initiative or for good cause found, preside at the reception of evidence.

* * * * *

Stanley F. Mires,
Chief Counsel, Legislative.

[FR Doc. 2010-2844 Filed 2-9-10; 8:45 am]

BILLING CODE P